ENVIRONMENTAL PROTECTION AGENCY

40 CFR Part 52

[EPA-R09-OAR-2017-0728; FRL-9990-34-Region 9]

Approval and Promulgation of Air Quality State Implementation Plans; California; Plumas County; Moderate Area Plan for the 2012 PM2.5 NAAQS

AGENCY: Environmental Protection Agency (EPA).

ACTION: Final rule.

SUMMARY: The Environmental Protection Agency (EPA) is approving most elements of state implementation plan (SIP) revisions submitted by California to address Clean Air Act (CAA or “Act”) requirements for the 2012 annual fine particulate matter (PM2.5) national ambient air quality standards (NAAQS or “standards”) in the Plumas County Moderate PM2.5 nonattainment area (“Portola nonattainment area”). The SIP revisions are the “Portola Fine Particulate Matter (PM2.5) Attainment Plan” submitted on February 28, 2017, and the 2019 and 2022 transportation conformity motor vehicle emission budgets (“budgets”) submitted on December 20, 2017. We refer to these submittals collectively as the “Portola PM2.5 Plan” or “Plan.” The EPA is not taking action at this time on the contingency measures in the Portola PM2.5 Plan.

DATES: This final rule is effective on April 24, 2019.

ADDRESSES: The EPA has established a docket for this action under Docket ID No. EPA-R09-OAR-2017-0728. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: John Ungvarsky, EPA Region IX, (415) 972-3963, Ungvarsky.john@epa.gov.

SUPPLEMENTARY INFORMATION: Throughout this document, “we,” “us,” and “our” refer to the EPA.

Table of Contents

I. Background

II. Public Comments and EPA Responses

III. Final Action

IV. Statutory and Executive Order Reviews

I. Background

Epidemiological studies have shown statistically significant correlations between elevated levels of PM2.5 (particulate matter with a diameter of 2.5 microns or less) and premature mortality. Other important health effects associated with PM2.5 exposure include aggravation of respiratory and cardiovascular disease, changes in lung function, and increased respiratory symptoms. Individuals particularly sensitive to PM2.5 exposure include older adults, people with heart and lung disease, and children.¹ PM2.5 can be emitted directly into the atmosphere as a solid or liquid particle (“primary PM2.5” or “direct PM2.5”) or can be formed in the atmosphere as a result of various chemical reactions among precursor pollutants such as nitrogen oxides, sulfur oxides, volatile organic compounds, and ammonia (“secondary PM2.5”).²

¹ 78 FR 3086, 3088 (January 15, 2013).

² 72 FR 20586, 20589 (April 25, 2007).

The EPA first established annual and 24-hour NAAQS for PM2.5 on July 18, 1997.³ The annual standard was set at 15.0 micrograms per cubic meter (µg/m³) based on a 3-year average of annual mean PM2.5 concentrations, and the 24-hour (daily) standard was set at 65 µg/m³ based on the 3-year average of the annual 98th percentile values of 24-hour PM2.5 concentrations at each monitor within an area.⁴ On October 17, 2006, the EPA revised the level of the 24-hour PM2.5 NAAQS to 35 µg/m³ based on a 3-year average of the annual 98th percentile values of 24-hour concentrations.⁵ On January 15, 2013, the EPA revised the annual standard to 12.0 µg/m³ based on a 3-year average of annual mean PM2.5 concentrations.⁶ We refer to this standard as the 2012 PM2.5 NAAQS.

³ 62 FR 38652. The initial NAAQS for PM2.5 included annual standards of 15.0 µg/m³ based on a 3-year average of annual mean PM2.5 concentrations and 24-hour (daily) standards of 65 µg/m³ based on a 3-year average of 98th percentile 24-hour concentrations (40 CFR 50.7).

⁴ The primary and secondary standards were set at the same level for both the 24-hour and the annual PM2.5 standards.

⁵ 71 FR 61144.

⁶ 78 FR 3086.

California submitted the Portola PM2.5 Plan to provide for attainment of the 2012 PM2.5 NAAQS in the Portola nonattainment area, which the EPA has designated and classified as “Moderate” nonattainment for these NAAQS.⁷ On December 18, 2018, we proposed to approve the following elements of the Portola PM2.5 Plan: The 2013 base year emissions inventories, the reasonably available control measure/reasonably available control technology (RACM/RACT) demonstration, the attainment demonstration, the reasonable further progress demonstration, the quantitative milestones, and the budgets for 2019 and 2021. We did not propose action on the contingency measures in the Portola PM2.5 Plan.⁸

⁷ 80 FR 2206 (January 15, 2015).

⁸ 83 FR 64774.

As part of the December 18, 2018 action, we proposed to find that the collection of PM2.5 control requirements in the Portola PM2.5 Plan implements all RACM/RACT for the control of direct PM2.5 and to approve the PM2.5 RACM demonstration in the Portola PM2.5 Plan as meeting the requirements of CAA sections 172(c)(1) and 189(a)(1)(C) and 40 CFR 51.1009. The RACM/RACT measures in the Plan include the District's enforceable commitment to implement the voluntary wood stove change-out program, the City of Portola Wood Stove and Fireplace Ordinance, CARB's mobile source program, the District's commitment to strengthen its open burning measure, and other controls on sources in the nonattainment area.

We also proposed to find that the attainment demonstration in the Portola PM2.5 Plan satisfies the requirements of sections 189(a)(1)(B) and 172(c)(1) of the CAA and 40 CFR 51.1011(a). In support of this proposal, we found that the State used two acceptable modeling techniques to demonstrate attainment of the 2012 PM2.5 NAAQS in the Portola nonattainment area, and that the plan demonstrates attainment as expeditiously as practicable. We also found that the Portola PM2.5 Plan provides a clear and convincing justification for its extensive reliance on a voluntary wood stove change-out incentive program as the primary strategy for attainment, and that all of the control measures in the Plan, including the District's enforceable commitment to implement the wood stove change-out program, together ensure that projected emission reductions will occur in time to provide for attainment of the 2012 PM2.5 NAAQS by the December 31, 2021 attainment date. Our December 18, 2018 proposed rule provides a more detailed discussion of our evaluation of the Plan.⁹

⁹ Id.

II. Public Comments and EPA Responses

The EPA's proposed action provided a 30-day public comment period that ended on January 17, 2019. We did not receive any comments during this period.

III. Final Action

Under CAA section 110(k)(3), the EPA is approving SIP revisions submitted by California to address the Act's Moderate area planning requirements for the 2012 PM2.5 NAAQS in the Portola nonattainment area. Specifically, the EPA is approving the following elements of the Portola PM2.5 Plan:

1. The 2013 base year emissions inventories as meeting the requirements of CAA section 172(c)(3);

2. the reasonably available control measure/reasonably available control technology demonstration as meeting the requirements of CAA sections 172(c)(1) and 189(a)(1)(C);

3. the attainment demonstration as meeting the requirements of CAA sections 172(c)(1) and 189(a)(1)(B);

4. the reasonable further progress demonstration as meeting the requirements of CAA section 172(c)(2);

5. the quantitative milestones as meeting the requirements of CAA section 189(c); and

6. the motor vehicle emissions budgets for 2019 and 2021, because they are derived from approvable attainment and reasonable further progress demonstrations and meet the requirements of CAA section 176(c) and 40 CFR part 93, subpart A.

The EPA is not taking action at this time on the contingency measures or the post-attainment year (2022) budget in the Portola PM2.5 Plan.

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves State law as meeting federal requirements and does not impose additional requirements beyond those imposed by State law. For that reason, this action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 24, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ammonia, Incorporation by reference, Intergovernmental relations, Oxides of nitrogen, Particulate matter, Reporting and recordkeeping requirements, Sulfur oxides, Volatile organic compounds.

Authority: 42 U.S.C. 7401 et seq.

Dated: February 20, 2019.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(500)(ii) and (c)(515) to read as follows:

§ 52.220 Identification of plan—in part.

* * * * *

(c) * * *

(500) * * *

(ii) Additional materials. (A) Northern Sierra Air Quality Management District.

(1) The “Portola Fine Particulate Matter (PM2.5) Attainment Plan,” adopted January 23, 2017, excluding subchapter V.G (“Demonstrating Attainment of the 24-hour Standard”), subchapter VI.B (“Contingency Measure”), and appendices.

(2) [Reserved]

* * * * *

(515) The following additional materials were submitted on December 20, 2017, by the Governor's designee.

(i) [Reserved]

(ii) Additional materials. (A) California Air Resources Board.

(1) Resolution 17-28, “Supplemental Transportation Conformity Emissions Budgets for the Portola Fine Particulate Matter (PM2.5) Attainment Plan,” October 26, 2017, excluding the 2022 conformity budget.

(2) [Reserved]

* * * * *

[FR Doc. 2019-05163 Filed 3-22-19; 8:45 am]

BILLING CODE 6560-50-P